DEPARTMENT OF ENERGY

Federal Energy Regulatory Commission

[Project No. 2684-010]

Flambeau Hydro, LLC; Notice Soliciting Scoping Comments

Take notice that the following hydroelectric license application has been filed with the Commission and is available for public inspection.

a. Type of Application: Subsequent Minor License.

b. Project No.: P-2684-010.

c. Date filed: April 26, 2017.

d. Applicant: Flambeau Hydro, LLC (Flambeau Hydro).

e. Name of Project: Arpin Dam Project.

f. Location: On the Chippewa River, near the Village of Radisson, in Sawyer County, Wisconsin. There are no federal or tribal lands within the project boundary.

g. Filed Pursuant to: Federal Power Act 16 U.S.C. 791(a)-825(r).

h. Applicant Contact: Mr. Jason Kreuscher, Renewable World Energies, LLC, 100 State Street, P.O. Box 264, Neshkoro, WI 54960; (855) 994-9376, ext. 102.

i. FERC Contact: Amy Chang, (202) 502-8250, or amy.chang@ferc.gov.

j. Deadline for filing scoping comments: December 4, 2017.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2684-010.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Arpin Dam Project consists of: (1) An approximately 742.5-foot-long, 19-foot-high stone masonry dam (west dam section) that includes two timber stoplog spillway bays and an approximately 318.9-foot-long overflow section; (2) an approximately 452.2-foot-long, 18-foot-high masonry dam (middle dam section) that includes two steel vertical lift gates and an approximately 237.9-foot-long overflow section; (3) an approximately 319.8-foot-long, 16-foot-high masonry dam (east dam section) that includes two tainter gates and an 108-foot-long overflow section; (4) an approximately 294-acre impoundment at a normal full pond water surface elevation of 1,227.22 feet North American Vertical Datum of 1988 (NAVD88); (5) a 37-foot-long, 11.5-foot-wide, 14-foot-high concrete, canal headworks structure on the eastern side of the impoundment; (6) an approximately 3,200-foot-long, 56-foot-wide, 6-foot-deep power canal; (7) a 13.5-foot-long, 48-foot-wide, 14.4-foot-high concrete intake structure that includes two 9-foot-wide, 11-foot-high steel stop gates and a 44-foot-wide, 14.4-foot-high trashrack with 1.5- to 1.75-inch clear bar spacing; (8) three 79-foot-long, 8-foot-diameter steel penstocks; (9) a 52-foot-long, 24-foot-wide, 25-foot-high cement block powerhouse containing two 600-kW, and one 250-kW vertical Francis turbine-generator units, for a total capacity of 1,450 kW; (10) a 15-foot-long, 2.4-kilovolt (kV) underground generator lead line that connects the turbine-generator units to a substation containing three step-up transformers; (11) a 3,645-foot-long, 22.9-kV above-ground transmission line; (12) a tailrace; (13) recreation facilities; and (14) appurtenant facilities.

Flambeau Hydro manually operates the project in a run-of-river mode, with an average annual generation of 7,336 megawatt-hours. Flambeau Hydro is not proposing any changes in project operation. Flambeau Hydro proposes to continue to release a year-round minimum flow of 40 cfs to the bypassed reach to protect aquatic resources and to continue to operate and maintain existing recreation facilities. Flambeau Hydro also proposes to develop an Historic Properties Management Plan to protect historic resources.

m. A copy of the application is available for review at the Commission in the Public Reference Room or may be viewed on the Commission's Web site at http://www.ferc.gov using the eLibrary link. Enter the docket number excluding the last three digits in the docket number field to address the document. For assistance, contact FERC Online Support. A copy is available for inspection and reproduction at the address in item (h) above.

n. You may also register online at http://www.ferc.gov/docs-filing/esubscription.asp to be notified via email of new filings and issuances related to this or other pending projects. For assistance, contact FERC Online Support.

o. Scoping Process.

The Commission staff intends to prepare a single Environmental Assessment (EA) for the Arpin Dam Project in accordance with the National Environmental Policy Act. The EA will consider both site-specific and cumulative environmental impacts and reasonable alternatives to the proposed action.

Commission staff does not propose to conduct any on-site scoping meetings at this time. Instead, we are soliciting comments, recommendations, and information on Scoping Document 1 (SD1), issued November 2, 2017.

Copies of SD1 outlining the subject areas to be addressed in the EA were distributed to the parties on the Commission's mailing list and the applicant's distribution list. Copies of SD1 may be viewed on the web at http://www.ferc.gov using the eLibrary link. Enter the docket number excluding the last three digits in the docket number field to access the document. For assistance, call 1-866-208-3676 or for TTY, (202) 502-8659.

Dated: November 2, 2017.
Kimberly D. Bose,
Secretary.

[FR Doc. 2017-24275 Filed 11-7-17; 8:45 am]

BILLING CODE 6717-01-P